FEDERAL TRADE COMMISSION

Granting of Request for Early Termination of the Waiting Period Under the Premerger Notification Rules

Section 7A of the Clayton Act, 15 U.S.C. 18a, as added by Title II of the Hart-Scott- Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

01/05/2016
20160481 | G | Altimeter Partners Fund, L.P.; United Continental Holdings, Inc.; Altimeter Partners Fund, L.P.
20160503 | G | Canyon Value Realization Fund, L.P.; Yahoo! Inc.; Canyon Value Realization Fund, L.P.
20160519 | G | Aurora Resurgence Fund II L.P.; Cardiac Science Corporation; Aurora Resurgence Fund II L.P.
20160526 | G | Blackstone Capital Partners (Cayman) VI L.P.; Ultima Global Holdings S.a.r.l.; Blackstone Capital Partners (Cayman) VI L.P.
20160530 | G | WestRock Company; Cenveo, Inc.; WestRock Company.
20160538 | G | John R. Fields; A. Dano Davis; John R. Fields.
20160541 | G | KKR European Fund IV L.P.; LGC Science Group Limited; KKR European Fund IV L.P.
20160542 | G | American Securities Partners VI, L.P.; Blount International, Inc.; American Securities Partners VI, L.P.
20160543 | G | Cerberus Institutional Partners VI, L.P.; Avon Products, Inc.; Cerberus Institutional Partners VI, L.P.
20160544 | G | SPC Partners V, L.P.; Leland A. Swanson; SPC Partners V, L.P.
20160547 | G | PTC Inc.; G. Corson Ellis, II; PTC Inc.
20160548 | G | DaVita Healthcare Partners, Inc.; The Everett Clinic, P.S.; DaVita Healthcare Partners, Inc.
20160558 | G | Baring Asia Private Equity Fund VI, L.P.2; Interplex Holdings Ltd.; Baring Asia Private Equity Fund VI, L.P.2.
01/06/2016
20160520 | G | Thomas H. Lee Parallel (Cayman) Fund VII, L.P.; New Century Hospice, Inc.; Thomas H. Lee Parallel (Cayman) Fund VII, L.P.
20160539 | G | Textron Inc.; Lee Benson; Textron Inc.
01/07/2016
20151730 | G | Gray Television, Inc.; Schurz Communications, Inc.; Gray Television, Inc.
20160540 | G | 40 North Latitude Fund LP; Mattress Firm Holding Corp.; 40 North Latitude Fund LP.
01/08/2016
20160487 | G | Checkers Control Partnership, L.P.; TalentWise, Inc.; Checkers Control Partnership, L.P.
20160518 | G | HEICO Corporation; ASP-Robertson LLC; HEICO Corporation.
20160560 | G | Blackstone Capital Partners VI, L.P.; SunEdison, Inc.; Blackstone Capital Partners VI, L.P.
20160568 | G | LCM Investments II, LLP; Jeffrey P. Cadwell; LCM Investments II, LLP.
20160582 | G | Algonquin Power & Utilities Corp.; CIP U.S. Direct GP, L.P.; Algonquin Power & Utilities Corp.
01/11/2016
20160517 | G | Gilead Sciences, Inc.; Galapagos NV; Gilead Sciences, Inc.
20160561 | G | Community Health System, Inc.; Indiana University Health, Inc.; Community Health System, Inc.
20160564 | G | salesforce.com, inc.; SteelBrick, Inc.; salesforce.com, inc.
20160572 | G | Hillenbrand, Inc.; Red Valve Company, Inc.; Hillenbrand, Inc.
20160508 | G | Beijing E-Town International Investment & Development Co.,; Mattson Technology, Inc.; Beijing E-Town International Investment & Development Co.
20160534 | G | Accor SA; Lodge Investment Company; Accor SA.
20160557 | G | AEA Investors Fund V LP; Thomas H. Lee Equity Fund VI, L.P.; AEA Investors Fund V LP.
01/13/2016
20160497 | G | Linsalata Capital Partners Fund VI, L.P.; Robert James Campbell, Jr.; Linsalata Capital Partners Fund VI, L.P.
01/14/2016
20160533 | G | General Motors Company; Lyft, Inc.; General Motors Company.
01/19/2016
20160535 | G | The Guardian Life Insurance Company of America; Avesis Incorporated; The Guardian Life Insurance Company of America.
20160536 | G | Tyco International plc; ShopperTrak RCT Corporation; Tyco International plc.
20160546 | G | AstraZeneca PLC; Acerta Pharma B.V.; AstraZeneca PLC.
20160581 | G | LCP VIII (AIV I), L.P.; AM Holdco, LLC; LCP VIII (AIV I), L.P.
20160583 | G | Blue2 Topco Limited; Herculean CC S.A.R.L.; Blue2 Topco Limited.
20160585 | G | Bain Capital Asia Fund II, L.P.; QuEST Global Services Pte. Ltd.; Bain Capital Asia Fund II, L.P.
20160590 | G | Oracle Corporation; AddThis, Inc.; Oracle Corporation.
20160593 | G | Roger S. Penske; Roger S. Penske; Roger S. Penske.
20160594 | G | NuVasive, Inc.; Ellipse Technologies, Inc.; NuVasive, Inc.
20160596 | G | Nomura Holdings, Inc.; American Century Companies, Inc.; Nomura Holdings, Inc.
20160598 | G | Leonard M. Tannenbaum; Fifth Street Finance Corp.; Leonard M. Tannenbaum.
20160603 | G | Bakk AL Holdings Limited; Bakkavor Group Limited; Bakk AL Holdings Limited.
01/20/2016
20160452 | G | Prestige Brands Holdings, Inc.; TSG5 L.P.; Prestige Brands Holdings, Inc.
20160527 | G | WellStar Health System, Inc.; Tenet Healthcare; WellStar Health System, Inc.
01/21/2016
20160587 | G | Aegion Corporation; Underground Solutions, Inc.; Aegion Corporation.
20160216 | G | BIF III Holtwood Holding (Delaware) LLC; Talen Energy Corporation; BIF III Holtwood Holding (Delaware) LLC.
20160565 | G | KKR North America Fund XI (Indigo) Blocker L.P.; Intuit Inc.; KKR North America Fund XI (Indigo) Blocker L.P.
20160584 | G | Cubic Corporation; Paul A. Gierow; Cubic Corporation.
20160595 | G | Hooker Furniture Corporation; HMI Acquisition, Inc.; Hooker Furniture Corporation.
20160605 | G | AP VIII Aegis Holdings, L.P.; James H. Engen; AP VIII Aegis Holdings, L.P.
20160611 | G | Mr. Godard Abel; salesforce.com, inc.; Mr. Godard Abel.
20160613 | G | Hawaiian Electric Industries, Inc.; ArcLight Energy Partners Fund IV, L.P.; Hawaiian Electric Industries, Inc.
20160617 | G | Brynwood Partners VII L.P.; Winter Street Opportunities Fund, L.P.; Brynwood Partners VII L.P.
20160621 | G | ISQ Global Infrastructure Fund, L.P.; WPX Energy, Inc.; ISQ Global Infrastructure Fund, L.P.
20160630 | G | Mr. Aloke Lohia and Mrs. Suchitra Lohia; BP plc; Mr. Aloke Lohia and Mrs. Suchitra Lohia.
20160642 | G | Graphic Packaging International, Inc.; Walter G. Anderson, Inc.; Graphic Packaging International, Inc.
01/29/2016
20160608 | G | KKR North America XI (Platinum) Blocker Parent L.P.; Voting Trust with regard to Mills Fleet Farm entities; KKR North America XI (Platinum) Blocker Parent L.P.
20160614 | G | Stingray Holdco LLC; VEPF IV AIV V, L.P.; Stingray Holdco LLC.
20160625 | G | Henry Ford Health System; Allegiance Health Services; Henry Ford Health System.
20160626 | G | William Goldring; Brown-Forman Corporation; William Goldring.
20160628 | G | Western Refining, Inc.; Northern Tier Energy LP; Western Refining, Inc.

FOR FURTHER INFORMATION CONTACT: Theresa Kingsberry, Program Support Specialist, Federal Trade Commission, Premerger Notification Office Bureau of Competition, Room CC-5301, Washington, DC 20024 (202) 326-3100.

By direction of the Commission.
Donald S. Clark,
Secretary.

[FR Doc. 2016-03035 Filed 2-12-16; 8:45 am]

BILLING CODE 6750-01-P